ENVIRONMENTAL PROTECTION AGENCY

40 CFR Part 58

[Docket # ID-04-003b; FRL-7801-7]

Changing the Ozone Monitoring Season in Idaho From April Through October to May Through September

AGENCY: Environmental Protection Agency (EPA).

ACTION: Proposed rule.

SUMMARY: Currently the ozone monitoring season for Idaho is April through October. Based on the ozone monitoring season in adjacent states with similar climatology, and analysis of existing ozone monitoring data collected in Boise, EPA is proposing to change the ozone monitoring season for Idaho to the months of May through September.

DATES: Comments on this proposed rule must be received in writing by September 29, 2004.

ADDRESSES: Comments may be mailed to Keith A. Rose, Environmental Protection Agency, Office of Air, Waste and Toxics (OAQ-107), EPA Region 10, 1200 Sixth Ave., Seattle Washington 98101. Comments may also be submitted electronically or through hand delivery/courier; please follow the detailed instructions in the Addresses section of the direct final rule which is located in the rules section of this Federal Register. To submit comments, please follow the detailed instructions described in the Direct Final Rule, SUPPLEMENTARY INFORMATION section, Part I, General Information.

Copies of the documents relevant to this action are available for public inspection between 8 a.m. and 4 p.m., Monday through Friday at the following office: United States Environmental Protection Agency, Region 10, Office of Air, Waste and Toxics, 1200 Sixth Ave., Seattle WA 98101.

FOR FURTHER INFORMATION CONTACT: Keith A. Rose, Office of Air, Waste and Toxics (OAQ-107), EPA Region 10, 1200 Sixth Ave., Seattle, WA 98101, (206) 553-1949, or rose.keith@epa.gov.

SUPPLEMENTARY INFORMATION: In the Final Rules Section of this Federal Register, EPA is changing the ozone monitoring season in Idaho to May through September as a direct final rule without prior proposal because the Agency views the change in ozone monitoring season in Idaho as noncontroversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period on this action. Any parties interested in commenting on this action should do so at this time.

For additional information see the direct final rule, of the same title, published in the rules section of this Federal Register.

Dated: July 15, 2004.
Ron Kreizenbeck,
Acting Regional Administrator, Region 10.

[FR Doc. 04-19729 Filed 8-27-04; 8:45 am]

BILLING CODE 6560-50-P